DEPARTMENT OF ENERGY

Federal Energy Regulatory Commission

Notice of Change in Meeting

January 17, 2007.

Upon the affirmative vote of Chairman Kelliher and Commissioners Kelly, Spitzer, Moeller and Wellinghoff the following Docket Nos. and Companies are hereby added as Item M-3 on the Commission's open meeting scheduled for January 18, 2007.

Item No. | Docket No. and company
M-3 | IN07-1-000, NorthWestern Corporation
| IN07-3-000, SCANA Corporation
| IN07-4-000, Entergy Services, Inc.
| IN07-5-000, PacifiCorp
| IN07-6-000, NRG Energy, Inc.

Magalie R. Salas,
Secretary.

[FR Doc. E7-780 Filed 1-19-07; 8:45 am]

BILLING CODE 6717-01-P